DEPARTMENT OF DEFENSE

Department of the Army, Army Corps of Engineers

Grant of Exclusive Licenses

AGENCY: U.S. Army Corps of Engineers, DOD.

ACTION: Notice.

SUMMARY: In accordance with 37 CFR 404.7(b)(1)(i), announcement is made of a prospective exclusive license of Russian Patent No. 2126867 titled “Concrete Armor Unit to Protect Coastal and Hydraulic Structures and Shorelines.”

DATES: Written objections must be filed not later than June 25, 2001.

ADDRESSES: U.S. Army Waterways Experiment Station, 3909 Halls Ferry Road, Vicksburg, MS 39180-6199, Attn: CEWES-OC.

FOR FURTHER INFORMATION CONTACT: Mr. Phil Stewart (601) 634-4113, e-mail stewarp@exl.wes.army.mil.

SUPPLEMENTARY INFORMATION: The Concrete Armor Unit was invented by Jeffrey A. Melby and George F. Turk. Rights to the patent application identified above has been assigned to the United States of America as represented by the Secretary of the Army. The United States of America as represented by the Secretary of the Army intends to grant an exclusive license for all fields of use, in the manufacture, use, and sale in the territories and possessions, including territorial waters of Russia to W.F. Baird and Associates, a Delaware corporation with principal offices at 2981 Yarmouth Greenway, Madison, Wisconsin 53711. Pursuant to 37 CFR 404.7(b)(1)(i), any interested party may file a written objection to this prospective exclusive license agreement.

Richard L. Frenette,
Counsel.

[FR Doc. 01-10012 Filed 4-23-01; 8:45 am]

BILLING CODE 3710-92-M